ENVIRONMENTAL PROTECTION AGENCY

[EPA-HQ-OPPT-2006-0794; FRL-8099-2]

Documents to be Addressed at the Second Meeting of the Stockholm Convention on Persistent Organic Pollutants Review Committee

AGENCY: Environmental Protection Agency (EPA).

ACTION: Notice.

SUMMARY: This notice alerts readers to the documents which will be discussed at the Second Persistent Organic Pollutants Review Committee (POPRC) meeting from November 6-10, 2006 in Geneva, Switzerland, and provides an overview of the procedural steps these chemicals will follow. Among the technical documents to be discussed are five risk profiles for chemicals previously proposed in November 2005 for addition to the Stockholm Convention on Persistent Organic Pollutants (POPs) Annexes A, B, and/or C and proposals for five new chemicals to be added to those Annexes at the November 2006 meeting. Other documents to be discussed can be found on the meeting agenda posted on the Stockholm Convention website and include standard work plans for draft risk management evaluations and risk profiles, confidentiality arrangements, and treatment of isomers. The meeting documents have been posted at http://www.pops.int/documents/meetings/poprc_2/default.htm.

DATES: Comments must be received on or before October 31, 2006.

ADDRESSES: Submit your comments, identified by docket identification (ID) number EPA-HQ-OPPT-2006-0794, by one of the following methods.

• Federal eRulemaking Portal: http://www.regulations.gov. Follow the on-line instructions for submitting comments.

• Mail: Document Control Office (7407M), Office of Pollution Prevention and Toxics (OPPT), Environmental Protection Agency, 1200 Pennsylvania Ave., NW., Washington, DC 20460-0001.

• Hand Delivery: OPPT Document Control Office (DCO), EPA East, Rm. 6428, 1201 Constitution Ave., NW., Washington, DC. Attention: Docket ID Number EPA-HQ-OPPT-2006-0794. The DCO is open from 8 a.m. to 4 p.m., Monday through Friday, excluding legal holidays. The telephone number for the DCO is (202) 564-8930. Such deliveries are only accepted during the DCO's normal hours of operation, and special arrangements should be made for deliveries of boxed information.

Instructions: Direct your comments to docket ID number EPA-HQ-OPPT-2006-0794. EPA's policy is that all comments received will be included in the public docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the public docket and made available on the Internet. If you submit an electronic comment, EPA recommends that you include your name and other contact information in the body of your comment and with any disk or CD ROM you submit. If EPA cannot read your comment due to technical difficulties and cannot contact you for clarification, EPA may not be able to consider your comment. Electronic files should avoid the use of special characters, any form of encryption, and be free of any defects or viruses.

Docket: All documents in the docket are listed in the regulations.gov index. Although listed in the index, some information is not publicly available, e.g., CBI or other information whose disclosure is restricted by statute. Certain other material, such as copyrighted material, will be publicly available only in hard copy. Publicly available docket materials are available electronically at http://www.regulations.gov, or, if only available in hard copy, at the OPPT Docket, EPA Docket Center (EPA/DC). The EPA/DC suffered structural damage due to flooding in June 2006. Although the EPA/DC is continuing operations, there will be temporary changes to the EPA/DC during the clean-up. The EPA/DC Public Reading Room, which was temporarily closed due to flooding, has been relocated in the EPA Headquarters Library, Infoterra Room (Room Number 3334) in EPA West, located at 1301 Constitution Ave., NW., Washington, DC. The EPA/DC Public Reading Room is open from 8:30 a.m. to 4:30 p.m., Monday through Friday, excluding legal holidays. The telephone number of the EPA/DC Public Reading Room is (202) 566-1744, and the telephone number for the OPPT Docket is (202) 566-0280. EPA visitors are required to show photographic identification and sign the EPA visitor log. Visitors to the EPA/DC Public Reading Room will be provided with an EPA/DC badge that must be visible at all times while in the EPA Building and returned to the guard upon departure. In addition, security personnel will escort visitors to and from the new EPA/DC Public Reading Room location. Up-to-date information about the EPA/DC is on the EPA website at http://www.epa.gov/epahome/dockets.htm.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Amy Breedlove, Chemical Control Division (7405M), Office Pollution Prevention and Toxics, Environmental Protection Agency, 1200 Pennsylvania Ave., NW., Washington, DC 20460-0001; telephone number: (202) 564-9823; e-mail address: breedlove.amy@epa.gov.

SUPPLEMENTARY INFORMATION:

I. General Information

A. Does this Action Apply to Me?

This action is directed to the public in general, and may be of particular interest to industrial chemical and pesticide manufacturers, importers, and processors. Since other entities may also be interested, the Agency has not attempted to describe all the specific entities that may be affected by this action. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD ROM that you mail to EPA, mark the outside of the disk or CD ROM as CBI and then identify electronically within the disk or CD ROM the specific information that is claimed CBI. In addition to one complete version of the comment that includes information claimed as CBI, a copy of the comment that does not contain the information claimed as CBI must be submitted for inclusion in the public docket. Information so marked will not be disclosed except in accordance with procedures set forth in 40 CFR part 2.

2. Procedures for preparing confidential information related to pesticides and industrial chemicals are in Unit I.B.1. Send confidential information about industrial chemicals using the submission procedures under ADDRESSES. Send confidential information about pesticides to: Janice K. Jensen, Office of Pesticide Programs (7506P), Environmental Protection Agency, Washington, DC 20460-0001 or hand delivered to: Janice K. Jensen, Office of Pesticide Programs (7506P), Potomac Yards South, Rm. S11317, 2777 South Crystal Dr., Arlington, VA 22202.

3. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at the estimate.

vi. Provide specific examples to illustrate your concerns, and suggested alternatives.

vii. Explain your views as clearly as possible, avoiding the use of profanity or personal threats.

viii. Make sure to submit your comments by the comment period deadline identified.

II. Background

The Stockholm Convention on Persistent Organic Pollutants (POPs) is a multilateral environmental agreement designed to protect human health and the environment from POPs. The United States signed the Convention in May of 2001 but has not yet ratified it (and thus is not a Party to the Convention). The United States currently participates as an observer in Convention activities. The Convention, which went into force in May of 2004, requires the Parties to reduce or eliminate the production and use of a number of intentionally produced POPs used as pesticides or industrial chemicals. The Convention also calls upon Parties to take certain specified measures to reduce releases of certain unintentionally produced POPs with the goal of their continuing minimization and, where feasible, ultimate elimination. The Convention also imposes controls on the handling of POPs wastes and on trade in POPs chemicals. In addition, there are specific science-based procedures that Parties to the Convention must use when considering the addition of new chemicals to the Convention's Annexes.

The first meeting of the Committee that reviews proposals for listing of new chemicals, called POPRC, took place in November 2005 in Geneva, Switzerland. Information about the Convention and the November 2005 POPRC meeting is available at the Convention website (http://www.pops.int/ and http://www.pops.int/documents/meetings/poprc/), respectively. POPRC had before it five proposals which were submitted for its consideration by Parties to the Convention, for addition to Annexes A, B, and/or C of the Convention. Three of the five proposals were for industrial chemicals: Pentabromodiphenyl ether (CAS No. 32534-81-9), hexabromobiphenyl (CAS No. 36355-01-8), and PFOS. Two of the five proposals were for pesticides: Lindane (CAS No. 58-89-9) and chlordecone (CAS No. 143-50-0).

At the November 2005 meeting, in accordance with the procedures laid down in Article 8 of the Convention, POPRC examined the proposals and applied the screening criteria in Annex D of the Convention (“Information Requirements and Screening Criteria”). With regard to all five chemicals, POPRC decided that it was satisfied that the screening criteria had been fulfilled and that further work should therefore be undertaken in accordance with the provisions of the Convention.

The five chemicals being newly proposed at the November 2006 meeting for inclusion in Annexes A, B and/or C of the Stockholm Convention are two industrial chemicals: Octabromodiphenyl ether (CAS No. 32536-52-0) and pentachlorobenzene (CAS No. 608-93-5); one chemical with both industrial and pesticidal uses: Short-chained chlorinated paraffins (CAS No. 85535-84-8); and two pesticides: Alpha hexachlorocyclohexane (CAS No. 319-84-6) and beta hexachlorocyclohexane (CAS No. 319-85-7).

Article 8 provides that once POPRC is satisfied that the screening criteria in Annex D have been fulfilled in the proposals, the following steps are then undertaken:

• Parties and observers are requested to provide additional information about the chemical, including information to be used in developing the risk profiles, per Annex E (“Information Requirements for the Risk Profile”).

• Draft risk profiles are prepared for consideration by POPRC.

• POPRC reviews the risk profiles and decides, on the basis of the risk profile, if the chemical is likely, as a result of its long-range environmental transport, to lead to significant adverse human health and/or environmental effects, such that global action is warranted. If POPRC determines that action is warranted, or the Conference of the Parties (COP) determines that the proposal shall proceed, then Parties and observers will be asked to provide information, per Annex F (“Information on Socio-Economic Considerations”), to aid in the development of risk management evaluations.

• Once POPRC is satisfied with the risk management evaluation, POPRC then prepares a recommendation whether to list the chemical for consideration by COP.

• COP makes the final decision on listing the chemical in Annexes A, B, and/or C.

EPA anticipates issuing Federal Register notices, with at least 30 day comment periods, soliciting information after all but the last step, when appropriate.

A. What Action is the Agency Taking?

The Agency is issuing this notice to increase awareness of the documents being discussed at POPRC in November 2006, the status of their review under the Convention, and upcoming procedural steps required by the Convention. The Agency will also use any comments received to inform its position on issues for the meeting. The relevant meeting documents have been posted at http://www.pops.int/documents/meetings/poprc_2/default.htm.

Comments, identified by docket ID number EPA-HQ-OPPT-2006-0794, must be received on or before October 31, 2006.

B. What is the Agency's Authority for Taking this Action?

EPA is requesting comment and information under the authority of section 102(2)(F) of the National Environmental Policy Act, 42 U.S.C. 4321 et seq., which directs all agencies of the Federal Government to “[r]ecognize the worldwide and long-range character of environmental problems and, where consistent with the foreign policy of the United States, lend appropriate support to initiatives, resolutions and programs designed to maximize cooperation in anticipating and preventing a decline in the quality of mankind's world environment.” Section 17(d) of the Federal Insecticide, Fungicide and Rodenticide Act (FIFRA) also provides additional support in that it directs the Administrator of EPA “in cooperation with the Department of State and any other appropriate Federal agency, [to] participate and cooperate in any international efforts to develop improved pesticide research and regulations.”

List of Subjects

Environmental protection, Chemicals, Hazardous substances.

Dated: October 2, 2006.
Charles M. Auer,
Director, Office of Pollution Prevention and Toxics.

[FR Doc. E6-16577 Filed 10-5-06; 8:45 am]

BILLING CODE 6560-50-S